DEPARTMENT OF COMMERCE

Patent and Trademark Office

Privacy Act of 1974; System of Records

AGENCY: United States Patent and Trademark Office, Commerce.

ACTION: Notice of amendment of Privacy Act system of records.

SUMMARY: In accordance with the requirements of the Privacy Act of 1974, as amended, the United States Patent and Trademark Office (USPTO) is amending the system of records currently listed under “COMMERCE/PAT-TM-11 Patent Examiner Testimony Files.” This action is being taken to update the Privacy Act notice. We invite the public to comment on the amendments noted in this publication.

DATES: Written comments must be received no later than May 1, 2013. The amendments will become effective as proposed on May 1, 2013, unless the USPTO receives comments that would result in a contrary determination.

ADDRESSES: You may submit written comments by any of the following methods:

• Email: Monica.Lateef@uspto.gov. Include “Privacy Act PAT-TM-11 comment” in the subject line of the message.

• Fax: (571) 273-0373, marked to the attention of Monica Lateef.

• Mail: Monica Lateef, Office of the Solicitor, United States Patent and Trademark Office, P.O. Box 1450, Alexandria, VA 22313-1450.

• Federal Rulemaking Portal: http://www.regulations.gov.

All comments received will be available for public inspection at the Federal rulemaking portal located at www.regulations.gov.

FOR FURTHER INFORMATION CONTACT: Monica Lateef, Office of the Solicitor, United States Patent and Trademark Office, P.O. Box 1450, Alexandria, VA 22313-1450, (571) 272-3000.

SUPPLEMENTARY INFORMATION: The United States Patent and Trademark Office (USPTO) is giving notice of an amendment to a system of records that is subject to the Privacy Act of 1974. This system of records maintains information related to testimony that may be given by current and former USPTO employees in accordance with 37 CFR part 104, 15 CFR part 15, and the Manual of Patent Examining Procedure (MPEP) Chapter 1700. The Privacy Act notice is being updated with the current address information for the system location and system manager. The description of the routine uses of records maintained in the system has been updated to include use in law enforcement, audits and oversight activities, and distribution to contractors, all uses commonly published in other agency system of records notices. The rule references for the notification procedure and contesting record procedures have been updated to correspond to the current statutes and rules for those items as related to the USPTO.

The amended Privacy Act system of records notice, “COMMERCE/PAT-TM-11 Patent Examiner Testimony Files,” is published in its entirety below.

COMMERCE/PAT-TM-11

System name:

Patent Examiner Testimony Files.

Security classification:

Unclassified.

System location:

Office of the Solicitor, United States Patent and Trademark Office, 600 Dulany Street, Alexandria, VA 22314.

Categories of individuals covered by the system:

Employees and former employees who have testified in person or through deposition in court actions, in accordance with 37 CFR part 104, 15 CFR part 15, and the Manual of Patent Examining Procedure (MPEP) Chapter 1700, while employed by the USPTO, or who have been interviewed to determine whether such testimony will be taken.

Categories of records in the system:

Name, address, employment status, education, work experience, and other matters which might be raised in the course of a deposition or other testimony.

Authority for maintenance of the system:

35 U.S.C. 1 and 6; 5 U.S.C. 301.

Purpose(s):

To maintain records related to current and former USPTO employees who may provide testimony, in accordance with 37 CFR part 104, 15 CFR part 15, and the Manual of Patent Examining Procedure (MPEP) Chapter 1700, while employed by the agency.

Routine uses of records maintained in the system, including categories of users and the purposes of such uses:

(1) Routine uses will include disclosure for law enforcement purposes to the appropriate agency or other authority, whether federal, state, local, foreign, international or tribal, charged with the responsibility of enforcing, investigating, or prosecuting a violation of any law, rule, regulation, or order in any case in which there is an indication of a violation or potential violation of law (civil, criminal, or regulatory in nature).

(2) Routine uses will include disclosure to an agency, organization, or individual for the purpose of performing audit or oversight operations as authorized by law, but only such information as is necessary and relevant to such audit or oversight function.

(3) Routine uses will include disclosure to contractors and their agents, grantees, experts, consultants, and others performing or working on a contract, service, grant, cooperative agreement, or other work assignment for the USPTO, when necessary to accomplish an agency function related to this system of records. Individuals provided information under this routine use are subject to the same Privacy Act requirements and limitations on disclosure as are applicable to the USPTO employees.

(4) Routine uses will also include the Prefatory Statement of General Routine Uses Nos.1-5 and 9-13, as found at 46 FR 63501-63502 (December 31, 1981).

Disclosure to consumer reporting agencies:

Not applicable.

Policies and practices for storing, retrieving, accessing, retaining, and disposing of records in the system:

Storage:

Paper copy.

Retrievability:

Filed alphabetically by name.

Safeguards:

Buildings employ security guards. Records are maintained in areas accessible to authorized personnel who are properly screened, cleared, and trained.

Retention and disposal:

Records retention and disposal is in accordance with the series records schedules.

System manager(s) and address:

Office of the Solicitor, Mail Stop 8, United States Patent and Trademark Office, P.O. Box 1450, Alexandria, VA 22313-1450.

Notification procedure:

Information about the records contained in this system may be obtained by sending a request in writing, signed, to the system manager at the address above or to the address provided in 37 CFR part 102 subpart B for making inquiries about records covered by the Privacy Act. Requesters should provide their name, address, and record sought (including date(s) of testimony or interview, if known) in accordance with the procedures for making inquiries appearing in 37 CFR part 102 subpart B.

Record access procedures:

Requests from individuals should be addressed as stated in the notification section above.

Contesting record procedures:

The general provisions for access, contesting contents, and appealing initial determinations by the individual concerned appear in 37 CFR part 102 subpart B. Requests from individuals should be addressed as stated in the notification section above.

Record source categories:

Subject individual, the individual's co-workers, and those authorized by the individual to furnish information.

Exemptions claimed for the system:

None.

Dated: March 26, 2013.
Susan K. Fawcett,
Records Officer, USPTO, Office of the Chief Information Officer.

[FR Doc. 2013-07390 Filed 3-29-13; 8:45 am]

BILLING CODE 3510-16-P